DEPARTMENT OF THE INTERIOR

Fish and Wildlife Service

Grand Cote National Wildlife Refuge

AGENCY: Fish and Wildlife Service, Interior.

ACTION: Notice of availability of the Draft Comprehensive Conservation Plan and Environmental Assessment for Grand Cote National Wildlife Refuge in Avoyelles Parish, LA

SUMMARY: The Fish and Wildlife Service announces that a Draft Comprehensive Conservation Plan and Environmental Assessment (Draft CCP/EA) for Grand Cote National Wildlife Refuge is available for public review and comment. This Draft CCP/EA was prepared pursuant to the National Wildlife Refuge System Administration Act, as amended, and the National Environmental Policy Act. The Draft CCP/EA describes the Service's proposal for management of the refuge for 15 years.

DATES: Written comments must be received at the postal or electronic addresses listed below no later than July 31, 2006.

ADDRESSES: To provide written comments or to obtain a copy of the Draft CCP/EA, please write to Tina Chouinard, National Resource Planner, Central Louisiana National Wildlife Refuge Complex, 401 Island Road, Marksville, Louisiana 71351; Telephone: 318/253-4238. Comments may also be submitted via electronic mail to tina_chouinard@fws.gov. The Draft CCP/EA will also be available for viewing and downloading online at http://southeast.fws.gov/planning/.

SUPPLEMENTARY INFORMATION: The National Wildlife Refuge System Administration Act of 1966, as amended by the National Wildlife Refuge System Improvement Act of 1997 (16 U.S.C. 668dd-668ee), requires the Service to develop a plan for each refuge. The purpose in developing a comprehensive conservation plan is to provide refuge managers with a 15-year strategy for achieving refuge purposes and contributing toward the mission of the National Wildlife Refuge System, consistent with sound principles of fish and wildlife management, conservation, legal mandates, and Service policies. In addition to outlining broad management direction on conserving wildlife and their habitats, plans identify wildlife-dependent recreational opportunities available to the public, including opportunities for hunting, fishing, wildlife observation, wildlife photography, and environmental education and interpretation.

Background: Grand Cote National Wildlife Refuge is in west-central Avoyelles Parish, Louisiana, about 5 miles west of the city of Marksville and 20 miles southeast of the city of Alexandria. The refuge is part of the Central Louisiana National Wildlife Refuge Complex, which also includes Lake Ophelia and Cat Island National Wildlife Refuges and several fee and easement Farm Service Agency sites. The refuge lies within a physiographic region known as the Mississippi Alluvial Valley. This valley was at one time a 25-million-acre forested wetland complex that extended along both sides of the Mississippi River from Illinois to Louisiana. Although the refuge was part of this very productive bottomland hardwood ecosystem, most of the forest on and around the refuge was cleared in the late 1960s for agricultural production. Since this land was cleared, most of what is now the refuge had been under intensive rice production, so there is an extensive system of man-made levees, irrigation ditches, and water control structures. Due to this infrastructure, the refuge is capable of providing critical shallow-water habitat for migratory waterfowl and shorebirds.

The refuge was established in 1989 to provide wintering habitat for mallards, pintails, blue-winged teal, and wood ducks and production habitat for wood ducks to meet the goals of the North American Waterfowl Management Plan. The refuge is also being managed to provide habitat for threatened and endangered species, a natural diversity of plants and animals, and opportunities for compatible wildlife-dependent recreation.

Significant issues addressed in the draft comprehensive conservation plan and environmental assessment include: waterfowl management, agriculture, cooperative farming, land acquisition, forest fragmentation, visitor services, cultural resources, and refuge access. The Service developed three alternatives for management of the refuge and chose Alternative 2 as the Service's proposed alternative.

Alternative 1 represents no change from current management of the refuge. Under this alternative, 6,075 acres would be protected, maintained, restored, and enhanced for resident wildlife, waterfowl, and threatened and endangered species. Refuge management programs would continue to be developed and implemented with little baseline biological information. All management actions would be directed toward achieving the refuge's primary purposes (e.g., preserving wintering habitat for mallards, pintails, blue-winged teal, and wood duck; providing production habitat for wood ducks; and helping to meet the habitat conservation goals of the North American Waterfowl Management Plan), while contributing to other national, regional, and state goals. Cooperative farming would continue to be used to manage and maintain approximately 2,400 acres of cropland and moist-soil habitats. The current level of wildlife-dependent recreation activities (e.g., hunting, fishing, wildlife observation, wildlife photography, and environmental education and interpretation) would be maintained.

Alternative 2, the proposed alternative, is considered to be the most effective management action for meeting the purposes of the refuge by adding more staff, equipment, and facilities in order to manage and restore wetland and moist-soil habitats and hydrology in support of migratory and resident waterfowl and other wildlife, especially white-tailed deer and woodcock. The proposed alternative seeks to conduct extensive wildlife population monitoring/surveying in order to assess population status, trends, wildlife habitat associations, and population responses to habitat management. Active habitat management would be implemented through water level manipulations, moist-soil and cropland management, minimal reforestation, and forest management designed to provide a diverse complex of habitats that meets the foraging, resting, and breeding requirements for a variety of species. Cooperative farming and refuge staff would be used to manage and maintain approximately 1,940 acres of existing cropland and moist-soil habitats. Under this alternative, the refuge would continue to seek acquisition of inholdings from all willing sellers within the present acquisition boundary, including 2,500-3,000 acres in the Chatlain Lake area to help better meet waterfowl objectives. The six priority wildlife-dependent public uses would continue to be supported and in some cases they would be expanded throughout the refuge under the proposed alternative. This alternative would also strengthen the close working relationship in existence between the Service, the local community, conservation organizations, the Louisiana Department of Wildlife and Fisheries, and other state and federal agencies.

Alternative 3 would maximize bottomland hardwood forest restoration in support of the area's endemic habitat by adding more staff, equipment, and facilities. Under this alternative, 6,075 acres of refuge lands would be protected, maintained, restored, and enhanced for resident wildlife, waterfowl, neotropical migratory birds, and threatened and endangered species. Some wildlife and plant censuses and inventory activities would be initiated to obtain the biological information needed to implement management programs on the refuge, especially for forest-dependent species. Most management actions would be directed toward creating and managing the bottomland hardwood forest habitat for neotropical migratory birds and other forest-dependent wildlife, while supporting the refuge's primary purposes. Cooperative farming would be eliminated. Agriculture acreage would be reduced to 500 acres; all farming would be conducted by refuge staff. The refuge would maintain 400 acres of moist-soil habitat. Under this alternative, the refuge would continue to seek acquisition of inholdings from willing sellers within the present acquisition boundary; however, the Service would eliminate the Chatlain Lake area from the current acquisition boundary. The six priority wildlife-dependent recreation opportunities would be provided.

After the review and comment period for the Draft CCP/EA, all comments will be analyzed and considered by the Service. All comments received from individuals on the Draft CCP/EA become part of the official public record. Requests for such comments will be handled in accordance with the Freedom of Information Act and other Service and Departmental policies and procedures.

Authority: This notice is published under the authority of the National Wildlife Refuge System Improvement Act of 1997, Public Law 105-57.

Dated: March 21, 2006.
Cynthia K. Dohner,
Acting Regional Director.

[FR Doc. 06-5460 Filed 6-15-05; 8:45 am]

BILLING CODE 4310-55-M